DEPARTMENT OF ENERGY

Federal Energy Regulatory Commission

Combined Notice of Filings

Take notice that the Commission has received the following Natural Gas Pipeline Rate and Refund Report filings:

Filings Instituting Proceedings

Docket Numbers: RP14-241-000.

Applicants: Columbia Gas Transmission, LLC.

Description: TCO Modernization—2014 Base Rate Reduction to be effective 1/1/2014.

Filed Date: 12/2/13.

Accession Number: 20131202-5038.

Comments Due: 5 p.m. ET 12/16/13.

Docket Numbers: RP14-242-000.

Applicants: Gulf South Pipeline Company, LP.

Description: Neg Rate Agmt Filing (Entergy LA 40489) to be effective 12/1/2013.

Filed Date: 12/2/13.

Accession Number: 20131202-5048.

Comments Due: 5 p.m. ET 12/16/13.

Docket Numbers: RP14-243-000.

Applicants: Gulf South Pipeline Company, LP.

Description: Cap Rel Neg Rate Agmt Filing (Petrohawk 41455 to Texla 41554) to be effective 12/1/2013.

Filed Date: 12/2/13.

Accession Number: 20131202-5050.

Comments Due: 5 p.m. ET 12/16/13.

Docket Numbers: RP14-244-000.

Applicants: Gulf South Pipeline Company, LP.

Description: Cap Rel Neg Rate Agmt Filing (Encana 37663 to Texla 41556) to be effective 12/1/2013.

Filed Date: 12/2/13.

Accession Number: 20131202-5051.

Comments Due: 5 p.m. ET 12/16/13.

Docket Numbers: RP14-245-000.

Applicants: Gulf South Pipeline Company, LP.

Description: Cap Rel Neg Rate Agmt Filing (JW Operating 34690 to Q-West 41559) to be effective 12/1/2013.

Filed Date: 12/2/13.

Accession Number: 20131202-5052.

Comments Due: 5 p.m. ET 12/16/13.

Docket Numbers: RP14-246-000.

Applicants: Gulf Crossing Pipeline Company LLC.

Description: Amendment to Neg Rate Agmt (BP 37-13) to be effective 12/3/2013.

Filed Date: 12/2/13.

Accession Number: 20131202-5055.

Comments Due: 5 p.m. ET 12/16/13.

Docket Numbers: RP14-247-000.

Applicants: Sea Robin Pipeline Company, LLC.

Description: Sea Robin Pipeline Company, LLC submits tariff filing per 154.312: Sea Robin Docket No. RP14-xxx Rate Case to be effective 1/1/2014.

Filed Date: 12/2/13.

Accession Number: 20131202-5124.

Comments Due: 5 p.m. ET 12/16/13.

Docket Numbers: RP14-248-000.

Applicants: Transcontinental Gas Pipe Line Company.

Description: Transcontinental Gas Pipe Line Company, LLC submits tariff filing per 154.204: Negotiated Rates—Cherokee AGL—Replacement Shippers—Dec 2013 to be effective 12/1/2013.

Filed Date: 12/2/13.

Accession Number: 20131202-5150.

Comments Due: 5 p.m. ET 12/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2013.
Nathaniel J. Davis, Sr.,
Deputy Secretary.

[FR Doc. 2013-29565 Filed 12-11-13; 8:45 am]

BILLING CODE 6717-01-P